DEPARTMENT OF HOMELAND SECURITY

U.S. Citizenship and Immigration Services

Agency Information Collection Activities: Form I-694, Extension of a Currently Approved Information Collection; Comment Request

ACTION: 60-Day Notice of Information Collection Under Review: Notice of Appeal of Decision Under Section 210 or 245A, Form I-694.

The Department of Homeland Security (DHS), U.S. Citizenship and Immigration Services (USCIS) will be submitting the following information collection request for review and clearance in accordance with the Paperwork Reduction Act (PRA) of 1995. This information collection notice is published to obtain comments from the public and affected agencies. Comments are encouraged and will be accepted for 60 days until June 8, 2012.

During this 60-day period, USCIS will be evaluating whether to revise the Form I-694. Should USCIS decide to revise Form I-694 we will advise the public when we publish the 30-day notice in the Federal Register in accordance with the PRA. The public will then have 30 days to comment on any revisions to the Form I-694.

Written comments and suggestions regarding items contained in this notice, and especially with regard to the estimated public burden and associated response time should be directed to DHS, USCIS, Chief, Regulatory Coordination Division, Office of Policy and Strategy, 20 Massachusetts Avenue NW., Suite 5012, Washington, DC 20529-2020. Comments may also be submitted to DHS via facsimile to 202-272-0997 or via email at USCISFRComment@dhs.gov. When submitting comments by email please add the OMB Control Number 1615-0034 in the subject box.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies concerning the proposed collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Extension of an existing information collection.

(2) Title of the Form/Collection: Notice of Appeal of Decision Under Section 210 or 245A.

(3) Agency form number, if any, and the applicable component of the Department of Homeland Security sponsoring the collection: Form I-694, U.S. Citizenship and Immigration Services.

(4) Affected public who will be asked or required to respond, as well as a brief abstract: Primary: Individuals and households. USCIS uses the information provided on Form I-694 in considering the appeal from a finding that an applicant is ineligible for legalization under section 210 and 245A of the Act or is ineligible for a related waiver of inadmissibility.

(5) An estimate of the total number of respondents and the amount of time estimated for an average respondent to respond: 50 responses at 0.5 hours (30 minutes) per response.

(6) An estimate of the total public burden (in hours) associated with the collection: 25 annual burden hours.

If you need a copy of the information collection instrument, please visit the Web site at: http://www.regulations.gov/.

We may also be contacted at: USCIS, Regulatory Products Division, Office of the Executive Secretariat, 20 Massachusetts Avenue NW., Room 5012, Washington, DC 20529-2020, Telephone number 202-272-8377.

Dated: April 4, 2012.
Laura Dawkins,
Acting Chief, Regulatory Coordination Division, Office of Policy and Strategy, U.S. Citizenship and Immigration Services, Department of Homeland Security.

[FR Doc. 2012-8508 Filed 4-6-12; 8:45 am]

BILLING CODE 9111-97-P